NATIONAL SCIENCE FOUNDATION

Special Emphasis Panel in Physics; Notice of Meeting

In accordance with the Federal Advisory Committee Act (Pub. L. 92-463, as amended), the National Science Foundation announces the following meeting.

Name: Special Emphasis Panel In Chemistry (#1191).

Date/Time: September 14-15, 2000; 8:30 am-5 pm.

Place: Northwestern University, Center for Catalysis and Surface Science, Evanston, IL 60208-3000.

Type of Meeting: Closed.

Contact Person: Dr. Joseph A. Akkara, National Science Foundation, 4201 Wilson Boulevard, Room 1055, Arlington, VA 22230. Telephone (703) 292-4946.

Purpose of Meeting: To provide advice and recommendations concerning a proposal for renewed support of the Institute for Chemistry.

Agenda: Listen to presentations and discuss merits of proposal.

Reason for Closing: The proposal being reviewed includes information of a proprietary or confidential nature, including technical information; and information on personnel. These matters are exempt under 5 U.S.C. 552b(c), (4) and (6) of the Government in the Sunshine Act.

Dated: August 23, 2000.
Karen J. York,
Committee Management Officer.

[FR Doc. 00-21938 Filed 8-29-00; 8:45 am]

BILLING CODE 7555-01-M